DEPARTMENT OF TRANSPORTATION

Coast Guard

33 CFR Part 117

[CGD01-01-031]

Drawbridge Operation Regulations: Long Island, New York Inland Waterway From East Rockaway Inlet to Shinnecock Canal, NY

AGENCY: Coast Guard, DOT.

ACTION: Notice of temporary deviation from regulations.

SUMMARY: The Commander, First Coast Guard District, has issued a temporary deviation from the drawbridge operation regulations for the Atlantic Beach Bridge, at mile 0.4, across the Reynolds Channel in New York. This deviation from the regulations allows the bridge owner to open only one of the two bascule spans for bridge openings from March 15, 2001 through May 11, 2001. Vessels that require both bascule spans to be opened for passage through the bridge shall provide at least a one-hour advance notice by calling the number posted at the bridge. This action is necessary to facilitate maintenance at the bridge.

DATES: This deviation is effective from March 15, 2001 through May 11, 2001.

FOR FURTHER INFORMATION CONTACT: Joe Schmied, Project Officer, First Coast Guard District, at (212) 668-7165.

SUPPLEMENTARY INFORMATION: The Atlantic Beach Bridge, mile 0.4, across the Reynolds Channel has a vertical clearance of 25 feet at mean high water, and 30 feet at mean low water in the closed position. The existing operating regulations are listed at 33 CFR 117.799(e).

The bridge owner, the New York State Department of Transportation, requested a temporary deviation from the operating regulations to facilitate necessary maintenance at the bridge. This deviation to the operating regulations allows the owner of the Atlantic Beach Bridge to open only one of the two bascule spans for bridge openings from March 15, 2001 through May 11, 2001. Vessels that require both bascule spans to be opened for passage through the bridge shall provide at least a one-hour advance notice by calling the number posted at the bridge. Vessels that can pass under the bridge without an opening may do so at all times.

The bridge owner provided less than 30 days notice to the Coast Guard of its request to deviate from the drawbridge regulations because various contingencies that dictate commencement of this vital phase of maintenance such as weather conditions and the necessary completion of other phases of the ongoing bridge maintenance frustrate scheduling that far in advance.

In accordance with 33 CFR 117.35(c), this work will be performed with all due speed in order to return the bridge to normal operation as soon as possible. This deviation from the operating regulations is authorized under 33 CFR 117.35.

Dated: March 16, 2001.
G.N. Naccara,
Rear Admiral, U.S. Coast Guard, Commander, First Coast Guard District.

[FR Doc. 01-7512 Filed 3-26-01; 8:45 am]

BILLING CODE 4910-15-P